DEPARTMENT OF JUSTICE

Drug Enforcement Administration

James F. Graves, M.D.; Revocation of Registration

On April 8, 2002, the Administrator of the Drug Enforcement Administration (DEA), issued an Order to Show Cause, Immediate Suspension of Registration, to James F. Graves, M.D. (Dr. Graves) of Milton, Florida, notifying him of an opportunity to show cause as to why DEA should not revoke his DEA Certificate of Registration, AG3101235 under 21 U.S.C. 824(a), and deny any pending applications for renewal or modification of that registration. As a basis for revocation, the Order to Show Cause alleged that Dr. Graves is not currently authorized to handle controlled substances in Florida, the state in which he practices, and had been convicted of a felony involving controlled substances. The order also notified Dr. Graves that should no request for a hearing be filed within 30 days, his hearing right would be deemed waived.

By letter dated April 16, 2002, Dr. Graves requested an administrative hearing. On May 7, 2002, DEA filed Government's Motion for Summary Disposition and Request for Stay of the Filings of Prehearing Statement. The Motion was based upon the argument that no facts were at issue: DEA cannot register or maintain the registration of a practitioner who is not duly authorized to handle controlled substances in the state in which he conducts business. Dr. Graves did not respond to the Motion. On July 10, 2002, Administrative Law Judge Mary Ellen Bittner certified and transmitted the record in the matter to the Deputy Administrator along with her Opinion and Recommended Decision. In her Decision, the Administrative Law Judge granted DEA's Motion for Summary Disposition and recommended that Dr. Graves' DEA registration be revoked.

The Deputy Administrator has carefully reviewed the entire record in this matter, as defined above, and hereby issues this final order as prescribed by 1301.46, based upon the following findings and conclusions. The Deputy Administrator adopts the Opinion and Recommended Decision of the Administrative Law Judge, and his adoption is in no manner diminished by any recitation of facts, issues and conclusions herein, or of any failure to mention a matter of fact or law. The Deputy Administrator now enters his final order without a hearing pursuant to 21 CFR 1301.43(d) and (e) and 1301.46.

The Deputy Administrator finds that Dr. Graves possesses DEA Certificate of Registration AG3101235. On January 29, 2002, the Florida Department of Health ordered an emergency suspension of Dr. Graves' medical license. Loss of state authority to engage in the practice of medicine is an independent ground to revoke a practioner's registration under 21 U.S.C. 824(a)(3). This agency has consistently held that a person may not maintain a DEA registration if he is without appropriate authority under the laws of the State in which he does business. See Anne Lazar Thorn, M.D., 62 FR 12847 (DEA 1997); Bobby Watts, M.D., 53 FR 11919 (DEA 1988).

Dr. Graves has not denied that he is currently not licensed to practice medicine in Florida, the jurisdiction in which he is registered. Accordingly, he is not entitled to a DEA registration. As the Administrative Law Judge stated, it is well-settled that when no question of fact is involved, or when the material facts are agreed upon, a plenary, adversarial administrative proceedings is not required. See Jesus R. Juarez, M.D., 62 FR 14945 (DEA 1997).

Accordingly, the Deputy Administrator of the Drug Enforcement Administration, pursuant to the authority vested in him be 21 U.S.C. 823 and 824 and 28 CFR 0.100(b) and 0.104, grants the agency's Motion for Summary Disposition and hereby orders that DEA Certificate of Registration AG3101235 issued to James F. Graves, M.D. be, and hereby is, revoked. The Deputy Administrator further orders that any pending applications for renewal of such registration be, and they hereby are, denied. This order is effective December 27, 2002.

Dated: November 4, 2002.
John B. Brown, III,
Deputy Administrator.

[FR Doc. 02-30022 Filed 11-26-02; 8:45 am]

BILLING CODE 4410-09-M